DEPARTMENT OF EDUCATION

[CFDA No.: 84.255A]

Life Skills for State and Local Prisoners Program; Notice Inviting Applications for New Awards for Fiscal Year (FY) 2000

Note to Applicants: This notice is a complete application package. Together with the statute authorizing the program and applicable regulations governing the program, including the Education Department General Administrative Regulations (EDGAR), this notice contains all of the information, application forms, and instructions needed to apply for an award under this competition.

Purpose of Program: The Life Skills for State and Local Prisoners Program provides financial assistance for establishing and operating programs designed to reduce recidivism through the development and improvement of life skills necessary for reintegration of adult prisoners into society.

Eligible Applicants: The following entities are eligible for an award under this program:

(a) State or local correctional agencies.

(b) State or local correctional education agencies.

Deadline for Transmittal of Applications: May 30, 2000.

Deadline for Intergovernmental Review: July 31, 2000.

Available Funds: $4,750,000 for the first 12 months. Funding for the second and third 12 months is subject to availability of funds and to a grantee meeting the requirements of 34 CFR 75.253.

Estimated Range of Awards: $315,000—$475,000 (funding for first 12 months).

Estimated Average Size of Awards: $395,000.

Estimated Number of Awards: 10-15.

Note: The Department is not bound by any estimates in this notice.

Project period: Up to 36 months (3 twelve-month grant cycles).

Page Limit: The application narrative is where you, the applicant, address the selection criteria reviewers use to evaluate your application. You must limit the application narrative to the equivalent of no more than 75 pages (including appendices) or 2,000 characters per page for the page limit specified, using the following standards:

• A page is 8.5 inches x 11 inches, on one side only, with 1-inch margins at the top, bottom, and both sides. For an electronic submission, a page equals 2,000 characters; and the Department of Education will convert any charts, tables, figures, and graphs from a page equivalency to a character count.

• Double space (no more than three lines per vertical inch) all text in the application narrative, including titles, headings, footnotes, quotations, references, and captions, as well as all text in charts, tables, figures, and graphs.

• Use a font that is either 12-point or larger or no smaller than 10 pitch (characters per inch).

The page and character count limits do not apply to the Application for Federal Education Assistance Form (ED 424); the Budget Information—Non-Construction Programs Form (ED 524), including the itemized budget; the other application forms; the assurances and certifications; or the table of contents, the text of the selection criteria within the narrative, the resumes, or the letters of support.

We will reject your application if—

• You apply these standards and exceed the page limit; or

• You apply other standards and exceed the equivalent of the page limit.

Applicable Regulations: The Education Department General Administrative Regulations (EDGAR) in 34 CFR Parts 74, 75, 77, 79, 80, 81, 82, 85, 86, 97, 98, 99, and the regulations for this program in 34 CFR Part 490.

Definitions

Applicants are encouraged to take particular note of the following definitions that are contained in 34 CFR 490.4:

“Life skills” includes self-development, communication skills, job and financial skills development, education, interpersonal and family relationship development, and stress and anger management.

“Local correctional agency” means any agency of local government that provides corrections services to incarcerated adults.

“Local correctional education agency” means any agency of local government, other than a local correctional agency, that provides educational services to incarcerated adults.

“State correctional agency” means any agency of State government that provides corrections services to incarcerated adults.

“State correctional education agency” means any agency of State government, other than a State correctional agency, that provides educational services to incarcerated adults.

Invitational Priorities

Under 34 CFR 75.105(c)(1), the Secretary is particularly interested in applications that meet one or more of the following invitational priorities. However, an application that meets these invitational priorities does not receive competitive or absolute preference over other applications.

Invitational Priority #1

Applications that demonstrate ways in which eligible entities and the private sector can effectively work together to assist students who are criminal offenders under the supervision of the justice system to attain the life skills they need to make a successful transition from correctional education programs to productive employment, including—

(a) Work experience or apprenticeship programs;

(b) Transitional worksite job training for students that is related to their occupational goals and closely linked to classroom and laboratory instruction provided by an eligible entity;

(c) Placement services in occupations that the students are preparing to enter;

(d) Where practical, projects that include activities that will benefit the public, such as the rehabilitation of public schools or housing in inner cities or economically depressed rural areas; or

(e) Employment-based learning programs.

Invitational Priority #2

Applications received from eligible entities, that establish or operate a life skills program for incarcerated adults within an Empowerment Zone, including a Supplemental Empowerment Zone (EZ), or an Enterprise Community (EC) designated by the United States Department of Housing and Urban Development or the United States Department of Agriculture. The Department seeks to encourage eligible applicants within EZ/EC communities to apply for grants in this competition. A list of EZ/EC communities is included in this notice.

Selection Criteria

The Secretary uses the following selection criteria to evaluate applications for new grants under this competition. The maximum score for all of these criteria is 100 points. The maximum score for each criterion is indicated in parentheses.

The program regulations in 34 CFR 490.20(b) provide that the Secretary may award up to 100 points for the selection criteria, including a reserved 15 points. For this competition, the Secretary distributes the reserved 15 points as follows:

Program Factors (34 CFR 490.21(a)). An additional ten points are added to this criterion for a possible total of 25 points.

Evaluation Plan (34 CFR 490.21(d)). An additional five points are added to this criterion for a possible total of 20 points.

(a) Program factors (25 points). The Secretary reviews the application to determine the quality of the proposed project, including the extent to which the application includes—

(1) A clear description of the services to be offered; and

(2) Life skills education designed to prepare adult offenders to reintegrate successfully into communities, schools, and the workplace.

(b) Educational significance (15 points). The Secretary reviews each application to determine the extent to which the applicant proposes—

(1) Project objectives that contribute to the improvement of life skills;

(2) To use unique and innovative techniques to produce benefits that address life skills problems and needs that are of national significance; and

(3) To demonstrate how well those national needs will be met by the project.

(c) Plan of operation (15 points). The Secretary reviews each application to determine the quality of the plan of operation for the project, including—

(1) The quality of the design of the project;

(2) The extent to which the project includes specific intended outcomes that—

(i) Will accomplish the purposes of the program;

(ii) Are attainable within the project period, given the project's budget and other resources;

(iii) Are susceptible to evaluation;

(iv) Are objective and measurable; and

(v) For a multi-year project, include specific objectives to be met, during each budget period, that can be used to determine the progress of the project toward meeting its intended outcomes;

(3) The extent to which the plan of management is effective and ensures proper and efficient administration of the project;

(4) The quality of the applicant's plan to use its resources and personnel to achieve each objective and intended outcome during the period of Federal funding; and

(5) How the applicant will ensure that project participants who are otherwise eligible to participate are selected without regard to race, color, national origin, gender, age, or disabling condition.

(d) Evaluation plan (20 points). The Secretary reviews each application to determine the quality of the evaluation plan for the project, including the extent to which the applicant's methods of evaluation—

(1) Are clearly explained and appropriate to the project;

(2) Will determine how successful the project is in meeting its intended outcomes, including an assessment of the effectiveness of the project in improving life skills of prisoners. To the extent feasible, the assessment must include a one-year post-release review, during the grant period, to measure the success of the project with respect to those prisoners who received services and were released. The assessment must involve comparison of the project to other existing education and training programs or no treatment for individuals, as appropriate. To assess program effectiveness, consideration may be given to implementing a random assignment evaluation design.

(3) Provide for an assessment of the efficiency of the program's replication efforts, including dissemination activities and technical assistance provided to other projects;

(4) Include formative evaluation activities to help assess program management and improve program operations; and

(5) To the extent possible, are objective and produce data that are quantifiable.

(e) Demonstration and dissemination (10 points). The Secretary reviews each application to determine the efficiency of the plan for demonstrating and disseminating information about project activities and results throughout the project period, including—

(1) High quality in the design of the demonstration and dissemination plan;

(2) Identification of target groups and provisions for publicizing the project at the local, State, and national levels by conducting or delivering presentations at conferences, workshops, and other professional meetings and by preparing materials for journal articles, newsletters, and brochures;

(3) Provisions for demonstrating the methods and techniques used by the project to others interested in replicating these methods and techniques, such as by inviting them to observe project activities;

(4) A description of the types of materials the applicant plans to make available to help others replicate project activities and the methods for making the materials available; and

(5) Provisions for assisting others to adopt and successfully implement the project or methods and techniques used by the project.

(f) Key personnel (5 points).

(1) The Secretary reviews each application to determine the quality of key personnel the applicant plans to use on the project, including—

(i) The qualifications, in relation to the objectives and planned outcomes of the project, of the project director;

(ii) The qualifications, in relation to the objectives and planned outcomes of the project, of each of the other key personnel to be used in the project, including any third-party evaluator;

(iii) The time that each person referred to in paragraphs (f)(1)(i) and (ii) of this section will commit to the project; and

(iv) How the applicant, as part of its nondiscriminatory employment practices, will ensure that its personnel are selected for employment without regard to race, color, national origin, gender, age, or disabling condition.

(2) To determine personnel qualifications under paragraphs (f)(1)(i) and (ii) of this section, the Secretary considers experience and training in project management and in fields related to the objectives and planned outcomes of the project.

(g) Budget and cost effectiveness (5 points). The Secretary reviews each application to determine the extent to which the budget—

(1) Is cost effective and adequate to support the project activities;

(2) Contains costs that are reasonable and necessary in relation to the objectives of the project; and

(3) Proposes using non-Federal resources available from appropriate employment, training, and education agencies in the State to provide project services and activities and to acquire project equipment and facilities.

(h) Adequacy of resources and commitment (5 points).

(1) The Secretary reviews each application to determine the extent to which the applicant plans to devote adequate resources to the project. The Secretary considers the extent to which—

(i) Facilities that the applicant plans to use are adequate; and

(ii) Equipment and supplies that the applicant plans to use are adequate.

(2) The Secretary reviews each application to determine the applicant's commitment to the project, including the extent to which—

(i) Non-Federal resources are adequate to provide project services and activities, especially resources of the public and private sectors; and

(ii) The applicant has the capacity to continue, expand, and build upon the project when Federal assistance ends.

Intergovernmental Review

This program is subject to the requirements of Executive Order 12372 (Intergovernmental Review of Federal Programs) and the regulations in 34 CFR part 79. The objective of the Executive order is to foster an intergovernmental partnership and to strengthen federalism by relying on State and local processes for State and local government coordination and review of proposed Federal financial assistance.

Applicants must contact the appropriate State Single Point of Contact to find out about, and to comply with, the State's process under Executive order 12372. Applicants proposing to perform activities in more than one State should immediately contact the Single Point of Contact for each of those States and follow the procedure established in each State under the Executive order. If you want to know the name and address of any State Single Point of Contact (SPOC), see the list included in this notice, or you may view the latest SPOC list on the OMB Web site at the following address:

http://www.whitehouse.gov/omb/grants.

In States that have not established a process or chosen a program for review, State, areawide, regional, and local entities may submit comments directly to the Department. Any State Process Recommendation and other comments submitted by a State Single Point of Contact and any comments from State, areawide, regional, and local entities must be mailed or hand-delivered by the date indicated in this notice to the following address: The Secretary, E.O. 12372—CFDA #84.255A, U.S. Department of Education, 400 Maryland Avenue, SW., Room 7E200, Washington, DC 20202-0125.

Proof of mailing will be determined on the same basis as applications (see 34 CFR 75.102). Recommendations or comments may be hand-delivered until 4:30 p.m. (Eastern time) on the date indicated in this notice.

Please note that the above address is not the same address as the one to which the applicant submits its completed application. Do not send applications to the above address.

Instructions for Transmittal of Applications

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

The U.S. Department of Education is conducting a limited pilot project of electronic submission of discretionary grant applications for selected programs. The Life Skills for State and Local Prisoners Program (CFDA 84.255A) is one of the programs included in the pilot project. If you are an applicant under the Life Skills for State and Local Prisoners Program, you may submit your application to us in either electronic or paper format.

The pilot project involves the use of the Electronic Grant Application System (e-GAPS) portion of the Grant Administration and Payment System (GAPS). We request your participation in the e-GAPS pilot project. By participating you will have an opportunity to have input into the overall design and approach of e-GAPS. At the conclusion of the pilot project, we will evaluate its success and solicit suggestions for improvements.

If you participate as a grant applicant in an e-GAPS pilot, please note the following:

• Your participation is voluntary.

• You will not receive any additional point value or penalty because you submit a grant application in electronic or paper format.

• You can submit all documents electronically, including the Application for Federal Assistance (ED 424), Budget Information—Non-Construction Programs (ED Form No. 524), and all necessary assurances and certifications. We may request that you give us original signatures on forms at a later date.

You may access the electronic grant application for the Life Skills for State and Local Prisoners Program at:

http://e-grants.ed.gov

We have included additional information about the e-GAPS pilot project (see Parity Guidelines between Paper and Electronic Applications) in this notice.

If you want to apply for a grant and be considered for funding, you must meet the following deadline requirements:

(A) If You Send Your Application by Mail:

You must mail the original and two copies of the application on or before the deadline date to: U.S. Department of Education, Application Control Center, Attention: CFDA #84.255A, Washington, DC 20202-4725.

You must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

If you mail an application through the U.S. Postal Service, we do not accept either of the following as proof of mailing:

(1) A private metered postmark.

(2) A mail receipt that is not dated by the U.S. Postal Service.

(B) If You Deliver Your Application by Hand:

You or your courier must hand deliver the original and two copies of the application by 4:30 P.M. (Washington, DC time) on or before the deadline date to: U.S. Department of Education, Application Control Center, Attention: CFDA #84.255A, Room 3633, Regional Office Building 3, 7th and D Streets, SW., Washington, DC.

The Application Control Center accepts application deliveries daily between 8 a.m. and 4:30 P.M. (Washington, DC time), except Saturdays, Sundays, and Federal holidays. The Center accepts application deliveries through the D Street entrance only. A person delivering an application must show identification to enter the building.

(C) If You Submit Your Application Electronically:

You must submit your grant application through the Internet using the software provided on the e-Grants Web site (http://e-grants.ed.gov) by 4:30 p.m. (Washington, DC time) on the deadline date.

The regular hours of operation of the e-Grants Web site are 6:00 a.m. till 12:00 midnight (Washington, DC time) daily, except Saturdays, Sundays, and Federal holidays. Please note that on Wednesdays the Web site is closed for maintenance at 7:00 p.m. (Washington, DC time).

Notes:

(1) The U.S. Postal Service does not uniformly provide a dated postmark. Before relying on this method, you should check with your local post office.

(2) If you send your application by mail or deliver it by hand or by a courier service, the Application Control Center will mail a Grant Application Receipt Acknowledgment to you. If you do not receive the notification of application receipt within 15 days from the date of mailing the application, you should call the U.S. Department of Education Application Control Center at (202) 708-9493.

(3) You must indicate on the envelope and—if not provided by the Department—in Item 3 of the Application for Federal Education Assistance (ED 424; revised January 12, 1999) the CFDA number—and suffix letter—of the competition under which you are submitting your application.

(4) If you submit your application through the Internet via the e-Grants Web site, you will receive an automatic acknowledgment when we receive your application.

Application Instructions and Form

To apply for an award under this program competition, your application must be organized in the following order and include the following five parts:

Part I: Application for Federal Assistance (ED Form 424 (Rev. 4-88)).

Part II: Budget Information.

Part III: Budget Narrative.

Part IV: Program Narrative.

Part V: Assurances and Certifications:

a. Assurances—Non-Construction Programs (Standard Form 424B).

b. Certification regarding Lobbying; Debarment, Suspension, and Other Responsibility Matters; and Drug-Free Workplace Requirements (ED 80-0013) and Instructions.

c. Certification regarding Debarment, Suspension, Ineligibility and Voluntary Exclusion: Lower Tier Covered Transactions (ED 80-0014, 9/90) and Instructions.

(Note:)

ED 80-0014 is intended for the use of grantees and should not be transmitted to the Department.)

d. Disclosure of Lobbying Activities (Standard Form LLL-A) (if applicable) and Instructions, and Disclosure of Lobbying Activities Continuation Sheet (Standard Form LLL-A).

e. An assurance that the applicant will report annually to the Secretary on the participation rate, cost, and effectiveness of the program and any other aspect of the program on which the Secretary may request information. (20 U.S.C. 1211-2(e)(2))

This notice contains all forms and instructions, including a statement regarding estimated public reporting burden, a notice to applicants regarding compliance with section 427 of the General Education Provisions Act (GEPA), various assurances, certifications, and required documentation, and additional information.

All applicants submitting hard copy applications must submit ONE original signed application, including ink signatures on all forms and assurances and ONE copy of the application. Please mark each application as original or copy.

No grant may be awarded unless a completed application form has been received.

Instructions for Part III—Budget Narrative

The budget narrative should explain, justify, and, if needed, clarify your budget summary. For each line item (personnel, fringe benefits, travel, etc.) in your budget, explain why it is there and how you computed the costs.

Instructions for Part IV—Program Narrative

The program narrative will comprise the largest portion of your application. This part is where you spell out the who, what, when, where, why, and how of your proposed project.

Although you will not have a form to fill out for your narrative, there is a format. This format is the selection criteria. Because your application will be reviewed and rated by a review panel on the basis of the selection criteria, your narrative should follow the order and format of the criteria.

Before preparing your application, you should carefully read the legislation and regulations of the program, eligibility requirements, information on any priority set by the Secretary, and the selection criteria for this competition.

Your program narrative should be clear, concise, and to the point. Begin the narrative with a one page abstract or summary of your proposed project. Then describe the project in detail, addressing each selection criterion in order.

You may include supporting documentation as appendices. Be sure that this material is concise and pertinent to this program competition.

You are advised that—

(a) The Department considers only information contained in the application in ranking applications for funding consideration. Letters of support sent separately from the formal application package are not considered in the review by the technical review panels. (34 CFR 75.217)

(b) The technical review panel evaluates each application solely on the basis of the established technical review criteria. Letters of support contained in the application will strengthen the application only if they contain commitments that pertain to the established technical review criteria, such as commitment of resources.

For Further Information Contact: Jennifer Arnold, U.S. Department of Education, 400 Maryland Avenue, S.W., Room 4529 Mary E. Switzer Building, Washington, D.C. 20202-7142, Telephone (202) 205-5621.

Individuals who use a telecommunications device for the deaf (TDD) may call the Federal Information Relay Service (FIRS) at 1-800-877-8339.

Individuals with disabilities may obtain this notice in an alternate format (e.g. Braille, large print, audiotape, or computer diskette) on request to the contact person listed in the preceding paragraph. Please note, however, that the Department is not able to reproduce in an alternate format the standard forms included in this notice.

Information about the Department's funding opportunities, including copies of application notices for discretionary grant competitions, can be viewed on the Department's Website (at http://www.ed.gov/). However, the official application notice for a discretionary grant competition is the notice published in the Federal Register.

Electronic Access to This Document

Anyone may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the preceding sites. If you have questions about using the PDF, call the U.S. Government Printing Office, toll free, at 1-888-293-6498 or in the Washington, DC area at (202) 512-1530.

Note: The official version of this document is the document published in the Federal Register. Free Internet access to the official edition of the Federal Register and the Code of Federal Regulations is available on GPO Access at:

http://www.access.gpo.gov/nara/index.html

Program Authority: 20 U.S.C. 1211-2.

Dated: April 6, 2000.
Robert D. Muller,
Acting Deputy Assistant Secretary for Vocational and Adult Education.

Instructions for Estimated Public Reporting Burden

Under terms of the Paperwork Reduction Act of 1980, as amended, and the regulations implementing that Act, the Department of Education invites comment on the public reporting burden in this collection of information. Public reporting burden for this collection of information is estimated to average 90 hours per response, including the time for reviewing instructions, searching existing data sources, gathering and maintaining the data needed, and completing and reviewing the collection of information. You may send comments regarding this burden to the U.S. Department of Education, Information Management Team, Washington, D.C. 20202-4651; and to the Office of Management and Budget, Paperwork Reduction Project, OMB 1830-0013, Washington, D.C. 20503. (Information collection approved under OMB control number 1830-0013. Expiration date: 3/31/2001)

Parity Guidelines Between Paper and Electronic Applications

The Department of Education is conducting a limited pilot project that allows applicants to use an Internet-based electronic system for submitting applications under selected discretionary grant programs. This competition is among those that have an electronic submission option available to all applicants. The system, called e-GAPS (Electronic Grant Application Package System), allows an applicant to submit a grant application to the Department (us) electronically, using a current version of the applicant's Internet browser. To see e-GAPS visit the following address:

http://e-grants.ed.gov

Because we want to ensure parity and a similar look between applications transmitted electronically and applications submitted in conventional paper form, e-GAPS has an impact on all applicants under this competition.

E-GAPS is a data-driven system; that is, e-GAPS users will be entering data on-line while completing their applications. This will be more interactive than just e-mailing a soft copy of a grant application to us. If you participate in this voluntary pilot project by submitting an application electronically, the data you enter on-line will go into a database and ultimately will be accessible in electronic form to our reviewers.

However, this pilot project is only the first step in the Department's eventual transition to electronic applications for grants. The pilot project is designed to enable us to evaluate the experience of gathering application data on-line. We will assess the on-line review process separately; so, during this pilot project, we will ultimately review in hard copy all information that we receive.

To help ensure parity and a similar look between electronic and paper copies of grant applications, we are asking each applicant that submits a paper application to adhere voluntarily to the following guidelines:

• Use consistent font throughout your document, with no formatting of any kind (that is, no bolding, underlining, italics, or colored text).

• If you are preparing your application on a conventional typewriter, make sure that the pitch (characters per inch) of the font is consistent throughout your document, and do not use formatting of any kind (for example, underlining or italics).

• For the narrative component, your application should consist of the number and text of each selection criterion followed by the narrative. The text of the selection criterion, if included, does not count against any page or character count limitation. You should append charts, tables, graphs, and graphics of any kind after you have completed the text of the relevant section. We suggest that you begin these items on a separate sheet of paper and refer to them within the text.

Example:

1. Please describe your project management plan.

Our project plan is composed of three major components: start-up, fulfillment, and closure. The flow of these components into the stated outcomes for this project is described below and presented in figure 3-1.

• Create all illustrations (including charts, tables, graphs, and pictures) in grayscale only.

• Place a page number at the bottom right of each page beginning with 1; and number your pages consecutively throughout your document.

At the top right of each page, place the name of the applicant, the applicant's DUNS number (if available), and the CFDA number of the competition.

Additional Information

What Should I Know About ED Grants?

What Should I Know About ED Grants? provides a non-technical summary of the Department of Education's discretionary grants process and the laws and regulations that govern it. An electronic copy of What Should I Know About ED Grants? is available at: http://www.ed.gov/pubs/KnowAbtGrants/.

To obtain a hard copy of What Should I Know About ED Grants?, please contact the Office of Correctional Education at: (202) 205-5621.

DUNS Number Instructions

D-U-N-S No.: Please provide the applicant's D-U-N-S Number. You can obtain your D-U-N-S Number at no charge by calling 1-800-333-0505 or by completing a D-U-N-S Number Request Form. The form can be obtained via the Internet at the following URL: http://www.dnb.com/dbis/aboutdb/intlduns.htm.

The D-U-N-S Number is a unique nine-digit number that does not convey any information about the recipient. A built in check digit helps assure the accuracy of the D-U-N-S Number. The ninth digit of each number is the check digit, which is mathematically related to the other digits. It lets computer systems determine if a D-U-N-S Number has been entered correctly.

Dun & Bradstreet, a global information services provider, has assigned D-U-N-S numbers to over 43 million companies worldwide.

Grant Application Receipt Acknowledgment

If you fail to receive the notification of application receipt within fifteen (15) days after the closing date, call: U.S. Department of Education, Coordination and Control Branch, (202) 708-9495.

Grant And Contract Funding Information

The Department of Education provides information about grant and contract opportunities through the internet: ED Internet Home Page, http://www.ed.gov/.

Important Notice to Prospective Participants in U.S. Department of Education Contract and Grant Programs

GRANTS

Applicants for grants from the U.S. Department of Education (ED) have to compete for limited funds. Deadlines assure all applicants that they will be treated fairly and equally, without last minute haste.

For these reasons, ED must set strict deadlines for grant applications. Prospective applicants can avoid disappointment if they understand that:

Failure to meet a deadline will mean that an applicant will be rejected without any consideration whatever.

The rules, including the deadline, for applying for each grant are published, individually, in the Federal Register. A one-year subscription to the Register may be obtained by sending $340.00 to: Superintendent of Documents, U.S. Government Printing Office, Washington, D.C. 20402-9371. (Send check or money order only, no cash or stamps.)

The instructions in the Federal Register must be followed exactly. Do not accept any other advice you may receive. No ED employee is authorized to extend any deadline published in the Register. Questions regarding submission of applications may be addressed to: U.S. Department of Education, Application Control Center, Washington, D.C. 20202-4725.

CONTRACTS

Competitive procurement actions undertaken by the ED are governed by the Federal Procurement Regulation and implementing ED Procurement Regulation.

Generally, prospective competitive procurement actions are synopsized in the Commerce Business Daily (CBD). Prospective offerors are therein advised of the nature of the procurement and where to apply for copies of the Request for Proposals (RFP).

Offerors are advised to be guided solely by the contents of the CBD synopsis and the instructions contained in the RFP. Questions regarding the submission of offers should be addressed to the Contracts Specialist identified on the face page of the RFP.

Offers are judged in competition with others, and failure to conform with any substantive requirements of the RFP will result in rejection of the offer without any consideration whatever.

Do not accept any advice you receive that is contrary to instructions contained in either the CBD synopsis or the RFP. No ED employee is authorized to consider a proposal which is non-responsive to the RFP.

A subscription to the CBD is available for $208.00 per year via second class mailing or $261.00 per year via first class mailing. Information included in the Federal Acquisition Regulation is contained in Title 48, Code of Federal Regulations, Chapter 1 ($49.00). The foregoing publication may be obtained by sending your check or money order only, no cash or stamps, to: Superintendent of Documents, U.S. Government Printing Office, Washington, D.C. 20402-9371.

In an effort to be certain this important information is widely disseminated, this notice is being included in all ED mail to the public. You may therefore, receive more than one notice. If you do, we apologize for any annoyance it may cause you.

ED Form 5348, 8/92, Replaces ED Form 5348, 6/86 which is obsolete.

GUIDANCE FOR PREPARING REQUIRED BREAKDOWN OF BUDGET CATEGORIES

Personnel

For each staff member, please provide position, FTE, annual salary, and amount he or she will be paid for time devoted to grant. As explained in general information section, applicant must provide documentation of all other internal and external time commitments for each staff member.

Fringe Benefits

Please indicate the rate used to calculate fringe benefits for each staff person. Applicant must include a signed statement that rates are standard for that institution.

Travel

Please describe, for all staff travel, purpose, type of travel, who will be traveling, the number of days. Be as detailed as possible, including information as to costs for airfare (or mileage), lodging, food, and other expenses. Please also include all registration fees here.

Equipment

Equipment is defined in the Education Department General Administrative Regulations (EDGAR) as tangible, nonexpendable personal property including exempt property charged directly to the grant award having a useful life of more than one year and an acquisition cost of $5,000 or more per unit. Applicants should also include in this category any materials required to run such equipment (peripherals, software, installation costs, etc.)

Supplies

These should be broken down by type, with a clear distinction made between those used for administrative purposes and those that will be used for instruction of students (indicate how many students will benefit). Must be tangible, thus services like printing should not be included here.

Contractual

If an outside entity has been procured through a competitive bid procedure to perform tasks, include here. Please indicate whether done by open bid or sole source justification. If service provider not selected competitively, include in “Other” category.

Other

Please include here all other costs (advertising, evaluation fees, printing, etc.). Applicant should indicate purpose of expenditure and how cost was calculated.

Indirect

These are costs involved in upkeep (utilities, employee services, etc.) that cannot be attributed to a specific objective. In order for an applicant to claim an indirect rate they must have a negotiated agreement with a Federal agency.

BILLING CODE 4000-01-U

[FR Doc. 00-9140 Filed 4-12-00; 8:45 am]

BILLING CODE 4000-01-C